DEPARTMENT OF HEALTH AND HUMAN SERVICES

Health Resources and Services Administration

Privacy Act of 1974: New System of Records

AGENCY: Health Resources and Services Administration (HRSA), HHS.

ACTION: Notification of new system of records.

SUMMARY: In accordance with the requirements of the Privacy Act, the Health Resources and Services Administration (HRSA) is publishing notice of a proposal to add a new system of records titled, “Information Center (IC) Integrated Clearinghouse System (IC/ICS),” System No. 09-15-0067. The HRSA IC/ICS will facilitate the delivery of publications and requested information by members of the general public. The HRSA IC/ICS will also enable HRSA to deliver information efficiently through physical mailings or broadcast e-mail messages to HRSA Grantee organizations and other interested parties.

DATES: HRSA invites interested parties to submit comments on the proposed New System of Records on or before July 30, 2007. HRSA has sent a Report of New Systems of Records to Congress and to the Office of Management and Budget (OMB). The New System of Records will be effective 40 days from the date submitted to OMB unless HRSA receives comments which would result in a contrary determination.

ADDRESSES: Please address comments to Donn Taylor, Health Resources and Services Administration, Division of Management Services, 5600 Fishers Lane, Room 14A-20, Rockville, Maryland 20857; Telephone (301) 443-0204. Comments received will be available for inspection at this same address from 9 a.m. to 3 p.m., Monday through Friday. This is not a toll-free number.

FOR FURTHER INFORMATION CONTACT: Tina Cheatham, Acting Director, Office of Communications, Health Resources and Services Administration, 5600 Fishers Lane, Room 14-27, Rockville, Maryland 20857, Telephone: 301-443-3376. Please note this is not a toll free telephone number.

SUPPLEMENTARY INFORMATION: The Health Resources and Services Administration proposes to establish a new system of records: “The HRSA Information Center (IC) Integrated Clearinghouse System (ICS),” HHS/HRSA/Office of Communications. The HRSA Information Center provides easy access to a diversity of resources and a broad range of health information from over 70 Agency programs. The HRSA Information Center makes this information available to the public, health care professionals, policy makers and researchers to enhance their access to vital knowledge generated by HRSA supported public health programs.

Dated: May 31, 2007.
Elizabeth M. Duke,
Administrator.

[FR Doc. 07-3052 Filed 6-19-07; 8:45 am]

BILLING CODE 4165-15-M